DEPARTMENT OF TRANSPORTATION

Federal Aviation Administration

14 CFR Part 73

[Airspace Docket No. 00-AWP-13]

Establishment, Redesignation, and Revocation of Restricted Areas; NV

AGENCY: Federal Aviation Administration (FAA), DOT.

ACTION: Final rule.

SUMMARY: This action redesignates Restricted Area 4804 (R-4804) Twin Peaks, NV, as R-4804A, and establishes R-4804B from flight level (FL) 180 to FL 350. Additionally, this action redesignates R-4813 Carson Sink, NV, as R-4813A, and establishes R-4813B from FL 180 to FL 350. This action also revokes R-4802 Lone Rock, NV, and designates the U.S. Navy (USN) Naval Strike and Warfare Center, Fallon, NV, as the using agency for R-4804A, R-4804B, R-4813A, and R-4813B.

EFFECTIVE DATE: 0901 UTC, April 18, 2002.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

History

On December 18, 2000, the FAA proposed the establishment, redesignation, and revocation of restricted areas in Nevada. Interested parties were invited to participate in this rulemaking proceeding by submitting written comments on the proposal to the FAA. No comments were received regarding this rulemaking. Except for editorial changes, and the addition of the time of designation for R-4804A Twin Peaks, NV, which remains the same as currently designated but, was inadvertently omitted from the proposal, this amendment is the same as that proposed in the Notice. These rulemaking actions “are necessary in the interest of national defense,” as required under 49 U.S.C. 40103(b)(3)(A).

The Rule

This action redesignates R-4804 Twin Peaks, NV, as R-4804A from surface to 17,999 mean sea level (MSL), and establishes R-4804B from FL 180 to FL 350. Additionally, this action redesignates R-4813 Carson Sink, NV, as R-4813A from surface to 17,999 MSL, and establishes R-4813B from FL 180 to FL 350. The establishment of restricted areas R-4804B and R-4813B respectively, increase the vertical limits of two existing restricted areas but does not increase the lateral boundaries of the restricted areas. The activation of the new areas will be on a real-time basis and follow agreed procedures between the United States Navy (USN) and the Manager of Oakland Center. This action also revokes R-4802 Lone Rock, NV, and designates the USN Naval Strike and Warfare Center, Fallon, NV, as the using agency for R-4804A, R-4804B, R-4813A, and R-4813B.

The USN requested these modifications to meet the Chief of Naval Operations training requirements resulting from a real world threat environment that requires flight crews to develop and maintain an ability to deliver ordnance (bombs, missiles, bullets, etc.) from high altitudes.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The coordinates for this airspace docket are based on North American Datum 83. Section 73.48 of part 73 of the Federal Aviation Regulations was republished in FAA Order 7400.8H dated September 1, 2000.

Environmental Review

This action was requested by the USN as part of the USN's Proposed Fallon Range Training Complex Requirements at Naval Air Station Fallon in Nevada, which also includes non-rulemaking airspace actions. Pursuant to section 102(2) of the National Environmental Policy Act of 1969 (NEPA), the Council on Environmental Quality (CEQ) regulations implementing NEPA (40 CFR parts 1500-1508), and other applicable law, the USN and the Bureau of Land Management (BLM) prepared and published a Final Environmental Impact Statement (FEIS) in January 2000 that analyzed the potential environmental impacts associated with the Proposed Fallon Range Training Complex Requirements. The FAA was a cooperating agency on the FEIS. The actions taken in this final rule were among several actions included in the FEIS. According to the FEIS, each of the actions has independent utility and could be implemented separately. See FEIS, p. 1-4 (Table 1-1). The FEIS considered five alternatives, including the “no action” alternative. All but the “no action” alternative included the actions taken in this final rule. The USN issued a Record of Decision on April 10, 2000.

The FAA has conducted an independent review of the FEIS and is adopting the FEIS for this action pursuant to 40 CFR § 1506.3(a) and (c). This final rule, which increases the vertical limits of two existing restricted areas but does not increase the lateral boundaries of the existing airspace, will not result in significant environmental impacts. The FAA has also approved the non-rulemaking airspace action included in the USN's proposed training requirements at the Fallon Range Training Complex. The record of decision for the non-rulemaking action is contained in a Non-Rulemaking Decision Document (NRDD) dated November 6, 2001. A copy of the NRDD has been placed in the public docket for this rulemaking.

List of Subjects in 14 CFR Part 73

Airspace, Navigation (air).

Adoption of the Amendment

In consideration of the foregoing, the Federal Aviation Administration amends 14 CFR part 73 as follows:

PART 73—SPECIAL USE AIRSPACE

1. The authority citation for 14 CFR part 73 continues to read as follows:

Authority: 49 U.S.C. 106(g), 40103, 40113, 40120; E.O. 10854, 24 FR 9565, 3 CFR, 1959-1963 Comp., p. 389.

§ 73.48 [Amended]

2. Section 73.48 is amended as follows:

* * * * *

R-4802 Lone Rock, NV [Revoke]

R-4804 Twin Peaks, NV [Revoke]

R-4813 Carson Sink, NV [Revoke]

R-4804A Twin Peaks, NV [New]

Boundaries. A 5-nautical-mile radius circle centered at lat. 39°13′00″N., long. 118°12′45″W.; and a 3-nautical-mile radius centered at lat. 39°14′15″N., long. 118°17′33″W.

Designated altitudes. Surface to but not including FL 180 excluding 2,000 feet AGL up to but not including 8,500 feet MSL, north of and within 1 NM of U.S. Highway 50 between the intersection of U.S. Highway 50 with long. 118°26′00″W., and long. 118°08′00″W.

Times of use. 0715-2330 local time, daily.

Controlling agency. FAA, Oakland ARTCC.

Using agency. USN Naval Strike and Warfare Center Fallon, NV.

R-4804B Twin Peaks, NV [New]

Boundaries. A 5-nautical-mile radius circle centered at lat. 39°13′00″N., long. 118°12′45″W.; and a 3-nautical-mile radius centered at lat. 39°14′15″N., long. 118°17′33″W.

Designated altitudes. FL 180 to and including FL 350.

Times of use. Intermittent by NOTAM 0715-2330 local time, daily. Controlling agency. FAA Oakland, ARTCC.

Using agency. USN Naval Strike and Warfare Center Fallon, NV.

R-4813A Carson Sink, NV [New]

Boundaries. Beginning at lat. 39°51′00″N., long. 118°38′04″W.; to lat. 40°01′00″N., long. 118°15′04″W.; to lat. 40°01′00″N., long. 118°01′03″W.; to lat. 39°58′00″N., long. 118°01′03″W.; to lat. 39°38′00″N., long. 118°17′03″W.; thence via the arc of a 15-NM radius circle centered at lat. 39°52′36″N., long. 118°20′31″W.; to lat. 39°45′50″N., long. 118°38′04″W.; thence to the point of beginning.

Designated altitudes. Surface to but not including FL 180.

Times of use. 0715-2330 local time, daily.

Controlling agency. FAA Oakland, ARTCC.

Using agency. USN Naval Strike and Warfare Center Fallon, NV.

R-4813B Carson Sink, NV [New]

Boundaries. Beginning at lat. 39°51′00″N., long. 118°38′04″W.; to lat. 40°01′00″N., long. 118°15′04″W.; to lat. 40°01′00N., long. 118°01′03″W.; to lat. 39°58′00″N., long. 118°01′03″W.; to lat. 39°38′00″N., long. 118°17′03″W.; thence via the arc of a 15-NM radius circle centered at lat. 39°52′36″N., long. 118°20′31″W.; to lat. 39°45′50″N., long. 118°38′04″W.; thence to the point of beginning.

Designated altitudes. FL 180 to and including FL 350.

Times of use. Intermittent by NOTAM 0715-2330 local time, daily.

Controlling agency. FAA Oakland, ARTCC.

Using agency. USN Naval Strike and Warfare Center Fallon, NV.

* * * * *

Issued in Washington, DC, on January 14, 2002.
Reginald C. Matthews,
Manager, Airspace and Rules Division.

[FR Doc. 02-1374 Filed 1-18-02; 8:45 am]

BILLING CODE 4910-13-P